NUCLEAR REGULATORY COMMISSION

Extension of Public Comment Period on the Draft Generic Environmental Impact Statement for In-Situ Leach Uranium Milling Facilities

AGENCY: Nuclear Regulatory Commission.

ACTION: Extension of public comment period.

SUMMARY: This notice revises a notice published on September 19, 2008, in the Federal Register (73 FR 54435), which announced, in part, that the public comment period for the NRC's draft Generic Environmental Impact Statement for In-Situ Leach Uranium Milling Facilities (Draft GEIS) closes on October 7, 2008. The purpose of this notice is to extend the public comment period on the draft GEIS to November 7, 2008.

DATES: The NRC recently has held public meetings on the Draft GEIS in Nebraska, New Mexico, South Dakota, and Wyoming, as part of the public comment process for the Draft GEIS. Additionally, members of the public have been submitting written comments on the Draft GEIS since the initial notice of availability was published on July 28, 2008 (73 FR 43795). In response to multiple requests received at the public meetings and in writing, the comment period on the Draft GEIS is being extended to November 7, 2008. The NRC will consider comments received or postmarked after that date to the extent practical. Written comments should be submitted as described in the ADDRESSES section of this notice.

ADDRESSES: Members of the public are invited and encouraged to submit comments on the Draft GEIS to the Chief, Rulemaking, Directives, and Editing Branch, Mailstop: T6-D59, U.S. Nuclear Regulatory Commission, Washington, DC 20555-0001. The NRC encourages comments submitted electronically to be sent to NRCREP.Resource@nrc.gov. Please include “Uranium Recovery GEIS” in the subject line when submitting written comments.

FOR FURTHER INFORMATION CONTACT: For general information on the NRC's NEPA process, or the environmental review process related to the Draft GEIS, please contact James Park, Project Manager, Division of Waste Management and Environmental Protection (DWMEP), Mail Stop T-8F5, U.S. Nuclear Regulatory Commission, Washington, DC, 20555-001, by phone at 1 (800) 368-5642, extension 6935. For general or technical information associated with the safety and licensing of uranium milling facilities, please contact William Von Till, Branch Chief, Uranium Recovery Branch, DWMEP, Mail Stop T-8F5, U.S. Nuclear Regulatory Commission, Washington, DC 20555-0001, by phone at 1 (800) 368-5642, extension 0598.

SUPPLEMENTARY INFORMATION:

I. Introduction

As stated previously, the NRC is accepting comments on the Draft GEIS. Following the end of the public comment period, the NRC staff will publish a Final GEIS that addresses, as appropriate, the public comments on the Draft GEIS. The NRC expects to publish the Final GEIS by June 2009.

II. Further Information

The Draft GEIS may be accessed on the Internet at http://www.nrc.gov/reading-rm/doc-collections/nuregs/staff/ by selecting “NUREG-1910.” Additionally, the NRC maintains an Agencywide Documents Access and Management System (ADAMS), which provides text and image files of the NRC's public documents. The Draft GEIS and its appendices may also be accessed through the NRC's Public Electronic Reading Room on the Internet at: http://www.nrc.gov/reading-rm/adams.html. If you either do not have access to ADAMS or if there is a problem accessing documents located in ADAMS, contact the NRC Public Document Room (PDR) reference staff at 1 (800) 397-4209, 1 (301) 415-4737 or by e-mail to pdr.resource@nrc.gov.

Information and documents associated with the Draft GEIS are also available for public review through the NRC Public Electronic Reading Room on the Internet at http://www.nrc.gov/reading-rm/adams.html and at the NRC's Web site for the GEIS, http://www.nrc.gov/materials/fuel-cycle-fac/licensing/geis.html. Both information and documents associated with the Draft GEIS also are available for inspection at the Commission's Public Document Room, U.S. NRC's Headquarters Building, 11555 Rockville Pike (first floor), Rockville, Maryland. For those without access to the Internet, paper copies of any electronic documents may be obtained for a fee by contacting the NRC's Public Document Room at 1-800-397-4209.

The draft GEIS and related documents may also be found at the following public libraries:

Albuquerque Main Library, 501 Copper NW., Albuquerque, New Mexico 87102, 505-768-5141;

Mother Whiteside Memorial Library, 525 West High Street, Grants, New Mexico 87020, 505-287-4793;

Octavia Fellin Public Library, 115 W Hill Avenue, Gallup, New Mexico 87301, 505-863-1291;

Natrona County Public Library, 307 East Second Street, Casper, Wyoming 82601, 307-332-5194;

Carbon County Public Library, 215 W Buffalo Street, Rawlins, Wyoming 82301, 307-328-2618;

Campbell County Public Library, 2101 South 4J Road, Gillette, Wyoming 82718, 307-687-0009;

Weston County Library, 23 West Main Street, Newcastle, Wyoming 82701, 307-746-2206;

Chadron Public Library, 507 Bordeaux Street, Chadron, Nebraska 69337, 308-432-0531;

Rapid City Public Library, 610 Quincy Street, Rapid City, South Dakota 57701, 605-394-4171.

Dated at Rockville, Maryland, this 29th day of September, 2008.
For the U.S. Nuclear Regulatory Commission.
Patrice M. Bubar,
Deputy Director, Environmental Protection and Performance Assessment Directorate, Division of Waste Management and Environmental Protection, Office of Federal and State Materials and Environmental Management Programs.

[FR Doc. E8-23341 Filed 10-2-08; 8:45 am]

BILLING CODE 7590-01-P